DEPARTMENT OF ENERGY

Sunshine Act Meeting

Agency Holding Meeting: Federal Energy Regulatory Commission.

Federal Register Citation of Previous Announcement: 06/25/2001, 66 FR 33676.

Previously Announced Time and Date of Meeting: June 27, 2001, 10:00 a.m.

Change in the Meeting: The following Docket No. has been added to Item CAG -29 on the Commission Meeting of June 27, 2001.

Item No. CAG-29.

Docket No. and Company: MG98-13-001, Tuscarora Gas Transmission Company.

David P. Boergers,
Secretary.

[FR Doc. 01-16666 Filed 6-28-01; 11:23 am]

BILLING CODE 6717-01-M